DEPARTMENT OF ENERGY

Federal Energy Regulatory Commission

Combined Notice of Filings #1

Take notice that the Commission received the following electric corporate filings:

Docket Numbers: EC24-92-000.

Applicants: Paxton BESS 1 LLC.

Description: Application for authorization under Section 203 of the Federal Power Act of Paxton BESS 1 LLC.

Filed Date: 6/25/24.

Accession Number: 20240625-5185.

Comment Date: 5 p.m. ET 7/16/24.

Docket Numbers: EC24-93-000.

Applicants: Mammoth North LLC.

Description: Application for authorization under Section 203 of the Federal Power Act of Mammoth North LLC.

Filed Date: 6/25/24.

Accession Number: 20240625-5188.

Comment Date: 5 p.m. ET 7/16/24.

Docket Numbers: EC24-95-000.

Applicants: Big Rock ESS Assets, LLC.

Description: Application for authorization under Section 203 of the Federal Power Act of Big Rock ESS Assets, LLC.

Filed Date: 6/25/24.

Accession Number: 20240625-5193.

Comment Date: 5 p.m. ET 7/16/24.

Docket Numbers: EC24-96-000.

Applicants: Coso Geothermal Power Holdings LLC, Arizona Solar One LLC, Mojave Solar LLC, Telocaset Wind Power Partners, LLC, High Prairie Wind Farm II, LLC, Old Trail Wind Farm, LLC, DCR Transmission, L.L.C., ECP ControlCo, LLC.

Description: Joint Application for Authorization Under Section 203 of the Federal Power Act of Coso Geothermal Power Holdings LLC, et al.

Filed Date: 6/27/24.

Accession Number: 20240627-5113.

Comment Date: 5 p.m. ET 8/12/24.

Take notice that the Commission received the following exempt wholesale generator filings:

Docket Numbers: EG24-215-000.

Applicants: BRP Antlia BESS LLC.

Description: BRP Antlia BESS LLC submits notice of self-certification of exempt wholesale generator status.

Filed Date: 6/27/24.

Accession Number: 20240627-5120.

Comment Date: 5 p.m. ET 7/18/24.

Docket Numbers: EG24-216-000.

Applicants: BRP Carina BESS LLC.

Description: BRP Carina BESS LLC submits notice of self-certification of exempt wholesale generator status.

Filed Date: 6/27/24.

Accession Number: 20240627-5121.

Comment Date: 5 p.m. ET 7/18/24.

Take notice that the Commission received the following Complaints and Compliance filings in EL Dockets:

Docket Numbers: EL24-121-000.

Applicants: Old Dominion Electric Cooperative v. The Potomac Edison Company, FirstEnergy Service Company, and PJM Interconnection, L.L.C.

Description: Complaint of Old Dominion Electric Cooperative v. The Potomac Edison Company, et al.

Filed Date: 6/26/24.

Accession Number: 20240626-5150.

Comment Date: 5 p.m. ET 7/16/24.

Take notice that the Commission received the following electric rate filings:

Docket Numbers: ER10-2434-013; ER10-2436-013; ER17-1666-010; ER18-1709-005; ER19-1635-004.

Applicants: Glaciers Edge Wind Project, LLC, Stoneray Power Partners, LLC, Red Pine Wind Project, LLC, Wapsipinicon Wind Project, LLC, Fenton Power Partners I, LLC.

Description: Triennial Market Power Analysis for Central Region of Fenton Power Partners I, LLC, et al.

Filed Date: 6/26/24.

Accession Number: 20240626-5199.

Comment Date: 5 p.m. ET 8/26/24.

Docket Numbers: ER13-172-003; ER20-134-002; ER10-1342-008; ER18-1777-005.

Applicants: Meadowlark Wind I LLC, CP Energy Marketing (US) Inc., Cardinal Point LLC, Midland Cogeneration Venture Limited Partnership.

Description: Notice of Change in Status of Midland Cogeneration Venture Limited Partnership, et al.

Filed Date: 6/24/24.

Accession Number: 20240624-5230.

Comment Date: 5 p.m. ET 7/15/24.

Docket Numbers: ER14-153-011; ER10-2742-017; ER16-517-006; ER20-1641-005.

Applicants: Southern Illinois Generation Company, LLC, Shelby County Energy Center, LLC, Tilton Energy, LLC, Gibson City Energy Center, LLC.

Description: Triennial Market Power Analysis for Central Region of Gibson City Energy Center, LLC, et al.

Filed Date: 6/26/24.

Accession Number: 20240626-5195.

Comment Date: 5 p.m. ET 8/26/24.

Docket Numbers: ER21-2445-004; ER23-2716-002.

Applicants: Moraine Sands Wind Power, LLC, Glacier Sands Wind Power, LLC.

Description: Triennial Market Power Analysis for Central Region of Glacier Sands Wind Power, LLC, et al.

Filed Date: 6/26/24.

Accession Number: 20240626-5198.

Comment Date: 5 p.m. ET 8/26/24.

Docket Numbers: ER22-2967-003.

Applicants: Wisconsin Electric Power Company.

Description: Compliance filing: Settlement Compliance Filing to be effective 1/1/2023.

Filed Date: 6/27/24.

Accession Number: 20240627-5089.

Comment Date: 5 p.m. ET 7/18/24.

Docket Numbers: ER23-1625-001.

Applicants: Apex Solar LLC.

Description: Notice of Change in Status of Young, Erica.

Filed Date: 6/26/24.

Accession Number: 20240626-5191.

Comment Date: 5 p.m. ET 7/17/24.

Docket Numbers: ER24-851-002.

Applicants: PacifiCorp.

Description: Compliance filing: Compliance Filling to be effective 3/12/2024.

Filed Date: 6/27/24.

Accession Number: 20240627-5135.

Comment Date: 5 p.m. ET 7/18/24.

Docket Numbers: ER24-856-002.

Applicants: Nevada Power Company.

Description: Compliance filing: WRAP Compliance Filing to be effective 3/12/2024.

Filed Date: 6/27/24.

Accession Number: 20240627-5136.

Comment Date: 5 p.m. ET 7/18/24.

Docket Numbers: ER24-857-002.

Applicants: Sierra Pacific Power Company.

Description: Compliance filing: Compliance Filing to be effective 3/12/2024.

Filed Date: 6/27/24.

Accession Number: 20240627-5138.

Comment Date: 5 p.m. ET 7/18/24.

Docket Numbers: ER24-1901-000.

Applicants: Yum Yum Solar LLC.

Description: Supplement to 04/30/2024 Yum Yum Solar LLC tariff filing.

Filed Date: 6/27/24.

Accession Number: 20240627-5091.

Comment Date: 5 p.m. ET 7/8/24.

Docket Numbers: ER24-2384-000.

Applicants: Public Service Company of Colorado.

Description: § 205(d) Rate Filing: 2024-06-26—SS—GI-2014-9 Amnd1—457—0.0.0 to be effective 6/27/2024.

Filed Date: 6/26/24.

Accession Number: 20240626-5145.

Comment Date: 5 p.m. ET 7/17/24.

Docket Numbers: ER24-2385-000.

Applicants: Monongahela Power Company.

Description: § 205(d) Rate Filing: Interconnection Service Agreement to be effective 6/27/2024.

Filed Date: 6/26/24.

Accession Number: 20240626-5162.

Comment Date: 5 p.m. ET 7/17/24.

Docket Numbers: ER24-2386-000.

Applicants: PJM Interconnection, L.L.C.

Description: § 205(d) Rate Filing: Amendment to ISA No. 6106, AD2-213 to be effective 8/27/2024.

Filed Date: 6/27/24.

Accession Number: 20240627-5026.

Comment Date: 5 p.m. ET 7/18/24.

Docket Numbers: ER24-2387-000.

Applicants: Southwest Power Pool, Inc.

Description: § 205(d) Rate Filing: 1266R16 Kansas Municipal Energy Agency NITSA and NOA to be effective 9/1/2024.

Filed Date: 6/27/24.

Accession Number: 20240627-5056.

Comment Date: 5 p.m. ET 7/18/24.

Docket Numbers: ER24-2388-000.

Applicants: Midcontinent Independent System Operator, Inc.

Description: § 205(d) Rate Filing: 2024-06-27_SA 3409 Springfield, IL-ZEP Grand Prairie Wind 1st Rev GIA (J750) to be effective 6/12/2024.

Filed Date: 6/27/24.

Accession Number: 20240627-5067.

Comment Date: 5 p.m. ET 7/18/24.

Docket Numbers: ER24-2389-000.

Applicants: Southwest Power Pool, Inc.

Description: § 205(d) Rate Filing: 3599R4 Missouri Electric Commission NITSA NOA to be effective 9/1/2024.

Filed Date: 6/27/24.

Accession Number: 20240627-5069.

Comment Date: 5 p.m. ET 7/18/24.

Docket Numbers: ER24-2390-000.

Applicants: The Narragansett Electric Company.

Description: § 205(d) Rate Filing: RIE Local Control Services Agreement FERC No. 1 to be effective 5/30/2024.

Filed Date: 6/27/24.

Accession Number: 20240627-5103.

Comment Date: 5 p.m. ET 7/18/24.

Docket Numbers: ER24-2391-000.

Applicants: Hecate Energy Highland LLC.

Description: § 205(d) Rate Filing: Category 1 Status Filing to be effective 6/28/2024.

Filed Date: 6/27/24.

Accession Number: 20240627-5124.

Comment Date: 5 p.m. ET 7/18/24.

Docket Numbers: ER24-2392-000.

Applicants: PJM Interconnection, L.L.C.

Description: § 205(d) Rate Filing: Amendment to ISA; SA No. 6698; AE2-110 to be effective 8/27/2024.

Filed Date: 6/27/24.

Accession Number: 20240627-5159.

Comment Date: 5 p.m. ET 7/18/24.

Docket Numbers: ER24-2393-000.

Applicants: Midcontinent Independent System Operator, Inc., International Transmission Company.

Description: § 205(d) Rate Filing: Midcontinent Independent System Operator, Inc. submits tariff filing per 35.13(a)(2)(iii: 2024-06-27_SA 4308 ITCTransmission-Swift Energy Storage E&P (J1902) to be effective 6/26/2024.

Filed Date: 6/27/24.

Accession Number: 20240627-5190.

Comment Date: 5 p.m. ET 7/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 27, 2024.
Debbie-Anne A. Reese,
Acting Secretary.

[FR Doc. 2024-14674 Filed 7-2-24; 8:45 am]

BILLING CODE 6717-01-P